NATIONAL AERONAUTICS AND SPACE ADMINISTRATION

[Notice: (14-106)]

NASA Applied Sciences Advisory Committee; Meeting

AGENCY: National Aeronautics and Space Administration.

ACTION: Notice of meeting.

SUMMARY: In accordance with the Federal Advisory Committee Act, Public Law 92-463, as amended, the National Aeronautics and Space Administration (NASA) announces a meeting of the Applied Sciences Advisory Committee. The meeting will be held for the purpose of soliciting, from the scientific community and other persons, scientific and technical information relevant to program planning.

DATES: Thursday December 11, 2014, 8:45 a.m. to 5:00 p.m., and Friday, December 12, 2014, 8:45 a.m. to 3:00 p.m., Local Time.

ADDRESSES: Hotel Adagio, 550 Geary St., Ensemble Meeting Room, San Francisco, CA 94102.

FOR FURTHER INFORMATION CONTACT: Mr. Peter Meister, Science Mission Directorate, NASA Headquarters, Washington, DC 20546, (202) 358-1557, fax (202) 358-4118, or peter.g.meister@nasa.gov.

SUPPLEMENTARY INFORMATION: The meeting will be open to the public up to the capacity of the room. This meeting will also be available telephonically and by WebEx. Any interested person may call the USA toll free conference number 844-467-4685, pass code 635480, to participate in the meeting by telephone. The WebEx link is https://nasa.webex.com, the meeting number on December 11 is 394 528 198, and password @December11; the meeting number on December 12 is 398 060 535 and password @December12. The agenda for the meeting includes the following topics:

—Review of Program Strategy

—Decadal Survey Preparation

—Data Latency Issues

It is imperative that the meeting be held on these dates to accommodate the scheduling priorities of the key participants. Attendees will be requested to sign a register.

Patricia D. Rausch,
Advisory Committee Management Officer, National Aeronautics and Space Administration.

[FR Doc. 2014-26610 Filed 11-7-14; 8:45 am]

BILLING CODE 7510-13-P